DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than February 4, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: HRSA Grantee Customer Satisfaction Survey OMB No. 0915-xxxx—NEW

Abstract: The Office of Federal Assistance Management (OFAM) within HRSA plans to survey HRSA grant recipients to better understand their opinions about HRSA's grants processes and to improve the way HRSA conducts business with them. This survey will focus on grantee customer satisfaction areas related to the grants life cycle, grantee relationships with HRSA staff (e.g., Project Officers), technical assistance received from HRSA bureaus and offices, availability of grant resources, and grantee access to guidance and instructional documents, etc. The ability to receive this information from external customers will provide HRSA with a repository of information, which will be incorporated into its strategic efforts to improve grants management services and customer service overall.

Need and Proposed Use of the Information: The HRSA Grantee Customer Satisfaction Survey will provide meaningful and relevant results to agency decision makers about various customer satisfaction domains (e.g., efficiency, timeliness, usefulness, responsiveness, quality and overall satisfaction with HRSA project officers, products and services). The information collected will assist HRSA in its efforts to gauge, understand, and effectively respond to the needs and concerns of its customers, especially as they relate to the aforementioned areas. The survey results will provide HRSA with concrete indicators regarding the best areas in which to dedicate time, energy, and resources to improve customer service. This information will be used to support agency-wide continuous quality improvement (CQI) efforts. It will also be used by HRSA to improve the efficiency, quality, and timeliness of its grants business processes, as well as to strengthen its partnership with its external customers.

Likely Respondents: HRSA grantees, specifically individuals who hold positions as a grantee's Grant Administrator, Business Officer, or Project Director/Principal Investigator, etc.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
HRSA Grantee Customer Satisfaction Survey | 3,000 | 1 | 3,000 | 0.42 | 1260
Total | 3,000 | 1 | 3,000 | 0.42 | 1260

Jackie Painter,
Acting Director, Division of Policy and Information Coordination.

[FR Doc. 2014-30778 Filed 1-2-15; 8:45 am]

BILLING CODE 4165-15-P